GENERAL SERVICES ADMINISTRATION

48 CFR Part 552

[GSAR Change 57; GSAR Case 2012-G503; Docket No. 2012-0018; Sequence 1]

RIN 3090-AJ36

General Services Administration Acquisition Regulation (GSAR); Industrial Funding Fee (IFF) and Sales Reporting; Correction

AGENCY: Office of Acquisition Policy, General Services Administration (GSA).

ACTION: Final rule; correction.

SUMMARY: The General Services Administration (GSA) is issuing a correction to GSAR Change 57; GSAR Case 2012-G503; Industrial Funding Fee (IFF) and Sales Reporting, which was published in the Federal Register at 79 FR 21400, April 16, 2014.

DATES: Effective: May 16, 2014.

FOR FURTHER INFORMATION CONTACT: Ms. Dana Munson, General Services Acquisition Policy Division, at 202-357-9652, for clarification of content. For information pertaining to status or publication schedules, contact the Regulatory Secretariat Division (MVCB), 1800 F Street NW., Washington, DC 20405, 202-501-4755. Please cite GSAR Case 2012-G503; Correction.

SUPPLEMENTARY INFORMATION: GSA published a document in the Federal Register at 79 FR 21400, April 16, 2014, and inadvertently section 552.238-74 contained a typographical error.

Correction

In the rule FR Doc. 2014-08659 published in the Federal Register at 79 FR 21400, April 16, 2014, make the following correction:

On page 21402, in the first column, section 552.238-74, instruction 2. b., remove “within” and add “FSS within” in its place.

Authority: 40 U.S.C. 121(c).

Dated: May 13, 2014.
Jeffrey A. Koses,
Senior Procurement Executive, Office of Acquisition Policy, Office of Government-wide Policy.

[FR Doc. 2014-11402 Filed 5-15-14; 8:45 am]

BILLING CODE 6820-61-P